DEPARTMENT OF ENERGY

Federal Energy Regulatory Commission

[Project No. 1862-172]

City of Tacoma, WA; Notice of Application for Amendment of License and Soliciting Comments, Motions To Intervene, and Protests

April 15, 2010.

Take notice that the following hydroelectric application has been filed with the Commission and is available for public inspection:

a. Application Type: Amendment of License.

b. Project No.: 1862-172.

c. Date Filed: March 5, 2010, and supplemented on March 30, 2010.

d. Applicant: City of Tacoma, Washington.

e. Name of Project: Nisqually Hydroelectric Project.

f. Location: The project is located on the Nisqually River in Pierce, Thurston, and Lewis Counties, Washington, partly on lands of the Mount Baker-Snoqualmie National Forest.

g. Filed Pursuant to: Federal Power Act, 16 U.S.C. 791a-825r.

h. Applicant Contact: Patrick D. McCarty, Generation Manager, Tacoma Power, 3628 South 35th Street, Tacoma, Washington 98409, telephone (253) 502-8336; or Marc Wicke, Tacoma Power, 3628 South 35th Street, Tacoma, Washington 98409, telephone (253) 502-8196.

i. FERC Contact: Linda Stewart, telephone (202) 502-6680, and e-mail address linda.stewart@ferc.gov.

j. Deadline for filing comments, motions to intervene, and protests: May 17, 2010.

Comments, protests, and interventions may be filed electronically via the Internet in lieu of paper. See 18 CFR 385.2001(a)(1)(iii) and the instructions on the Commission's Web site (http://www.ferc.gov) under the “e-filing” link. The Commission strongly encourages electronic filings.

All documents (original and eight copies) filed by paper should be sent to: Secretary, Federal Energy Regulatory Commission, 888 First Street, NE., Washington, DC 20426. Please include the project number (P-1862-172) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: The City of Tacoma, Washington proposes to modify Articles 405 (downramping rates) and 409 (timing of planned spill events) to allow for monthly spillway gate testing at the LaGrande Dam from November 1 to February 15. The spillway gate testing is a recommendation of the June 2008 Independent Consultant's Part 12D Safety Inspection Report for the project.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. 2010-9261 Filed 4-21-10; 8:45 am]

BILLING CODE 6717-01-P